DEPARTMENT OF COMMERCE

Foreign-Trade Zones Board

[B-55-2014]

Foreign-Trade Zone (FTZ) 221—Mesa, Arizona; Notification of Proposed Production Activity; Apple Inc./GTAT Corp. (Components for Consumer Electronics); Mesa, Arizona

The City of Mesa, grantee of FTZ 221, submitted a notification of proposed production activity to the FTZ Board on behalf of Apple Inc./GTAT Corp. (Project Cascade), located in Mesa, Arizona, within Subzone 221A. The notification conforming to the requirements of the regulations of the FTZ Board (15 CFR 400.22) was received on July 31, 2014.

Project Cascade already has authority to produce certain components for consumer electronics within Subzone 221A. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt Project Cascade from customs duty payments on the foreign status materials/components used in export production. On its domestic sales, Project Cascade would be able to choose the duty rates during customs entry procedures that apply to sapphire crackle and waste/scrap (duty rate ranges from duty-free to 3%) for the foreign status materials/components noted below and in the existing scope of authority. Customs duties also could possibly be deferred or reduced on foreign status production equipment.

The materials/components sourced from abroad include: alumina, sapphire and sapphire crackle (duty rate ranges from duty-free to 6.4%).

Public comment is invited from interested parties. Submissions shall be addressed to the Board's Executive Secretary at the address below. The closing period for their receipt is September 22, 2014

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Elizabeth Whiteman at Elizabeth.Whiteman@trade.gov or (202) 482-0473.

Dated: August 7, 2014.
Andrew McGilvray,
Executive Secretary.

[FR Doc. 2014-19053 Filed 8-11-14; 8:45 am]

BILLING CODE 3510-DS-P